DEPARTMENT OF DEFENSE

Department of the Navy

[Docket ID: USN-2022-HQ-0030]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by June 1, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Shipbuilding Industrial Base Demographics Survey; OMB Control Number 0703-IDMS.

Type of Request: New.

Number of Respondents: 1,263.

Responses per Respondent: 1.

Annual Responses: 1,263.

Average Burden per Response: 4.81 hours.

Annual Burden Hours: 6,075.

Needs and Uses: The Shipbuilding Industrial Base Demographic Survey is necessary to ensure a complete data set is available to meet the intent of Executive Order No. 13985 and Section 1026 of the William M. (Mac) Thornberry National Defense Authorization Act for Fiscal Year 2021, and provide actionable information on the Defense Industrial Base. The collected information will assist in drafting a biennial Report to Congress (RTC), as well as provide additional information and support Navy strategy for funding workforce development pilot programs and initiatives. This key demographic information will illustrate current trends, projected gaps in experience and age, and highlight additional areas of focus based on current workforce and skilled trade employment figures. The respondents for this survey are the suppliers in the shipbuilding industrial base (SIB). This includes private companies and industry organizations but is not inclusive of government shipyards and government organizations such as Naval Surface Warfare Centers. Suppliers in the SIB are key information holders on skilled workforce and are the only entities capable of answering the Congressional requirements set forth in the FY21 NDAA. Through the information provided, suppliers in the SIB will contribute to improving workforce enrollment and retention, assisting with targeting strategies and new programs aimed at expanding the skilled workforce available.

Affected Public: Business or other for-profit.

Frequency: Biennially.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: April 27, 2023.
Aaron T. Siegel,
Alternate OSD Federal Register Liaison Officer, Department of Defense.

[FR Doc. 2023-09303 Filed 5-1-23; 8:45 am]

BILLING CODE 5001-06-P